DEPARTMENT OF JUSTICE

Notice of Lodging of Consent Decree Under the Safe Drinking Water Act

Notice is hereby given that on June 30, 2008, a proposed Consent Decree (the “Decree”) in United States v. Town of Newburgh, New York, Civil Action No. 08 Civ. 5902 (SCR) was lodged with the United States District Court for the Southern District of New York.

In a complaint, filed simultaneously with the Decree, the United States alleged that, between 2005 and 2007, the drinking water system owned and operated by the Town of Newburgh (the “Town”) violated the Safe Drinking Water Act, 42 U.S.C. 300f, et seq., and its implementing regulations in several respects. First, the United States alleged that the Town repeatedly exceeded maximum contaminant levels for certain disinfectant byproducts, namely haloacetic acids. The United States further alleged that the Town failed to comply with an Administrative Order issued by the United States Environmental Protection Agency (“EPA”) requiring the Town to monitor drinking water quality and report the monitoring results to the Orange County Department of Health. The lawsuit also charged that the Town had failed to provide the required notice to the public on each occasion that the Town's drinking water exceeded the maximum contaminant levels for disinfectant byproducts.

Pursuant to the Decree, the Town shall construct a water treatment facility to filter the drinking water it draws from the Delaware Aqueduct, the Town's principal water source. The Decree requires the Town to complete construction of the facility by May 1, 2013, pursuant to a schedule of 29 interim construction milestones.

The Decree further requires the Town to implement a number of interim measures to protect the quality of its drinking water until the Town has fully complied with the long term construction of the water treatment facility. For example, the Decree mandates ongoing monitoring of the water that the Town obtains from the Delaware Aqueduct for contaminants, as well as monthly reporting of the monitoring data to EPA, the State of New York and Orange County. Under the Decree, the Town's water must also meet water quality standards applicable to water systems that are not required to install treatment facilities.

The Town will pay a $100,000 civil monetary penalty to the United States pursuant to the Decree. The Town must also implement three environmental projects to improve the water quality in and around the Town. Specifically, the Town will purchase and maintain vacant undeveloped real properties around the Chadwick Lake Reservoir, an alternate drinking water source for the Town, in order to protect the watershed. The Town will also connect residential and commercial properties in the Town along North Carpenter Avenue and West Stone Street to the City of Newburgh's sanitary sewer system. This project will prevent waste in septic systems from discharging directly into the ground and, in some cases, running above ground to other water bodies in the area, such as Orange Lake and tributaries to the Hudson River. In addition, the Town agreed to replace existing catch basins connected to pipes that discharge into Orange Lake with new catch basins equipped to prevent sediment and floatable debris from flowing into the lake. The value of these supplemental environmental projects is estimated at $912,000.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Town of Newburgh, New York, D.J. Ref. 90-5-1-1-08838.

The Decree may be examined at the Office of the United States Attorney, 86 Chambers Street, 3rd Floor, New York, New York 10007, and at U.S. EPA Region 2, Office of Regional Counsel, 290 Broadway, New York, New York 10007-1866. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Maureen M. Katz,
Assistant Chief, Environmental Enforcement Section, Environment and Natural Resources Division.

[FR Doc. E8-15806 Filed 7-10-08; 8:45 am]

BILLING CODE 4410-15-P